DEPARTMENT OF LABOR

Office of the Secretary

Submission for OMB Review: Comment Request

December 17, 2007.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: king.darrin@dol.gov.

Interested parties are encouraged to send comments to the Office of Information and Regulatory Affairs, Attn: John Kraemer, OMB Desk Officer for the Mine Safety and Health Administration (MSHA), Office of Management and Budget, 725 17th Street, NW., Room 10235, Washington, DC 20503, Telephone: 202-395-4816 / Fax: 202-395-6974 (these are not a toll-free numbers), e-mail: OIRA_submission@omb.eop.gov within 30 days from the date of this publication in the Federal Register. In order to ensure the appropriate consideration, comments should reference the applicable OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title of Collection: Records of Tests and Examinations of Personnel Hoisting Equipment.

OMB Control Number: 1219-0034.

Affected Public: Private Sector: Business or other for-profit (Mines).

Agency Form Number: None.

Estimated Number of Respondents: 255.

Estimated Total Annual Burden Hours: 6,873.

Estimated Total Annual Cost Burden: $306,000.

Description: MSHA requires records of specific tests and inspections of mine personnel hoisting systems, including wire ropes, to ensure that such systems are safe to operate while in use. For additional information, see related notice published on October 17, 2007 at 72 FR 58900.

Agency: Mine Safety and Health Administration.

Type of Review: Extension without change of currently approved collection.

Title of Collection: Respirator Program Records.

OMB Control Number: 1219-0048.

Affected Public: Private Sector: Business or other for-profit (Mines).

Agency Form Number: None.

Estimated Number of Respondents: 300.

Estimated Total Annual Burden Hours: 2,174 .

Estimated Total Annual Cost Burden: $90,000.

Description: MSHA requires metal and nonmetal mine operators to (1) establish written standard operating procedures governing the selection, maintenance, and use of respirators, and (2) to keep records of the results of respirator fit-tests. For additional information, see related notice published on October 15, 2007 at 72 FR 58336.

Agency Mine Safety and Health Administration.

Type of Review: Extension without change of currently approved collection.

Title of Collection: Hoist Operators' Physical Fitness.

OMB Control Number: 1219-0049.

Affected Public: Private Sector: Business or other for-profit (Mines).

Agency Form Number: None.

Estimated Number of Respondents: 64.

Estimated Total Annual Burden Hours: 11.

Estimated Total Annual Cost Burden: $98,560.

Description: Mine operators are required to have hoist operators examined and certified annually for fitness of duty, by a qualified, licensed physician. For additional information, see related notice published on October 15, 2007 at 72 FR 58337.

Agency: Mine Safety and Health Administration.

Type of Review: Extension without change of currently approved collection.

Title of Collection: Rock Burst Control Plan (Pertains to Underground Metal/Nonmetal Mines—30 CFR 57.3461).

OMB Control Number: 1219-0097.

Affected Public: Private Sector: Business or other for-profit (Mines).

Agency Form Number: None.

Estimated Number of Respondents: 2.

Estimated Total Annual Burden Hours: 24.

Estimated Total Annual Cost Burden: $0.

Description: Requires underground metal and nonmetal mine operators to develop a rock burst plan within 90 days after a rock burst has been experienced. Stress data is normally recorded on gauges and plotted on maps. This information is used for work assignments to assure miner safety and to schedule correction work. For additional information, see related notice published on October 15, 2007 at 72 FR 58337.

Darrin A, King,
Acting Departmental Clearance Officer.

[FR Doc. E7-24904 Filed 12-21-07; 8:45 am]

BILLING CODE 4510-43-P